DEPARTMENT OF ENERGY

Federal Energy Regulatory Commission

[Docket No. IC01-542-001, FERC-542]

Information Collection Submitted for Review and Request for Comments

June 4, 2001.

AGENCY: Federal Energy Regulatory Commission.

ACTION: Notice of submission for review of the Office of Management and Budget (OMB) and request for comments.

SUMMARY: The Federal Energy Regulatory Commission (Commission) has submitted the energy information collection listed in this notice to the Office of Management and Budget (OMB) for review under the provisions of section 3507 of the Paperwork Reduction Act of 1995 (Pub. L. 104-13). Any interested person may file comments on the collection of information directly with OMB and should address a copy of those comments to the Commission as explained below. The Commission did not receive comments in response to an earlier Federal Register notice of January 24, 2001 (66 FR 7634) and has made a notation in this submission.

DATES: Comments regarding this collection are best assured of having their full effect if received on or before July 9, 2001.

ADDRESSES: Address comments to the Office of Management and Budget, Office of Information and Regulatory Affairs, Attention: Federal Energy Regulatory Commission Desk Officer, 725 17th Street, NW., Washington DC 20503. A copy of the comments should also be sent to Federal Energy Regulatory Commission, Office of the Chief Information Officer, Attention: Mr. Michael Miller, CI-1, 888 First Street NE., Washington, DC 20426. Mr. Miller may be reached by telephone at (202) 208-1415, by fax at (202) 208-2425, and by e-mail at mike.miller@ferc.fed.us.

SUPPLEMENTARY INFORMATION:

Description

The energy information submitted to OMB for review contains:

1. Collection of Information: FERC-542 “Gas Pipeline Rates: Rate Tracking”

2. Sponsor: Federal Energy Regulatory Commission.

3. Control No: 1902-0070. The Commission is requesting reinstatement, without change, of the previously approved data collection for which approval expired December 31, 2000, and a three-year approval of the collection of data. This is a mandatory information collection requirement.

4. Necessity of Collection of Information: Submission of the information is necessary to enable the Commission to carry out its responsibilities in implementing provisions of Sections 4, 5, and 16 of the Natural Gas Act (NGA) and Title IV of the Natural Gas Policy Act (NGPA), 15 U.S.C. 3301-3432. These statutes empower the Commission to collect natural gas transmission cost information from interstate natural gas transporters for the purposes of verifying that these costs, which are passed on to pipeline companies, are just and reasonable. The Commission implements these requirements in 18 CFR 154.4; 154.7; 154.101; 154.107; 154.201; 154.207-.209 and 154.401-.403. Interstate natural gas pipelines are required by the Commission to track their transportation associated costs to allow for the Commission's review and where appropriate, approval of the through of these costs to pipeline customers. Most of the FERC-542 tracking filings are scheduled accountings of the cost of fuel or electric power necessary to operate compressor stations. Other track the costs of Gas Research Institute fees, the Commission's annul charge adjustment assessments, and various cost reimbursements.

Tracking filings may be submitted to any time or on a regularly scheduled basis in accordance with the pipeline company's tariff. Filings may be either: (1) Accepted; (2) suspended and set for hearing; (3) suspended, but not set for hearing; or (4) suspended for further review, such as technical conference or some other type of Commission action.

5. Respondent Description: The respondent universe currently comprises approximately 55 natural gas pipeline companies.

6. Estimated Burden: 23,100 total burden hours, 55 respondents, 165 responses annually, 140 hours per response.

Authority: Sections 4, 5 and 16 of the NGA (15 U.S.C. 717-717w) and Title IV of the Natural Gas Policy Act (NGPA), 15 U.S.C. 3301-3432.

David P. Boergers,
Secretary.

[FR Doc. 01-14435 Filed 6-7-01; 8:45 am]

BILLING CODE 6717-01-M